DEPARTMENT OF TRANSPORTATION

Federal Highway Administration

[Docket No. FHWA-2020-0024]

Agency Information Collection Activities: Notice of Request for Extension of Currently Approved Information Collection

AGENCY: Federal Highway Administration (FHWA), DOT.

ACTION: Notice of request for extension of currently approved information collection.

SUMMARY: The FHWA has forwarded the information collection request described in this notice to the Office of Management and Budget (OMB) for approval of a new (periodic) information collection. We published a Federal Register Notice with a 60-day public comment period on this information collection on November 19, 2020. We are required to publish this notice in the Federal Register by the Paperwork Reduction Act of 1995.

DATES: Please submit comments by December 4, 2020.

ADDRESSES: You may submit comments identified by DOT Docket ID Number 2020-0024 by any of the following methods:

For access to Written comments and recommendations for the proposed information collection should be sent within 30 days of publication of this notice to www.reginfo.gov/public/do/PRAMain. Find this particular information collection by selecting “Currently under 30-day Review—Open for Public Comments” or by using the search function.

FOR FURTHER INFORMATION CONTACT: Steven Frankel, (202) 366-9649 or Beatriz Hernandez (202) 366-3126, Office of the Chief Financial Officer, Federal Highway Administration, Department of Transportation, 1200 New Jersey Avenue SE, Washington, DC 20590, Monday through Friday, except Federal holidays.

SUPPLEMENTARY INFORMATION: Title: Request Form for Fund Transfers to Other Agencies and Among Title 23 Programs.

OMB Control Number: 2125-0620.

Background: The Fixing America's Surface Transportation (FAST) Act, Public Law 114-94, continues the ability of States to transfer highway funds to other States and agencies and among programs/projects. These authorities are codified in sections 104 and 126 of title 23, United States Code, as amended by the FAST Act. Transferability under the FAST Act is generally similar to that allowed under previous authorization acts such as the Moving Ahead for Progress in the 21st Century Act (MAP-21) and the Safe, Accountable, Flexible, Efficient Transportation Equity Act: A Legacy for Users (SAFETEA-LU). This notice establishes requirements for initiating the transfer of apportioned funds (funds distributed among States and programs by statutory formula) to carry out these provisions of law. The types of transfers affected by this notice are:

a. Transfer of funds from a State to the FHWA pursuant to U.S.C. Title 23, § 104(f)(3);

b. Transfer of funds from a State to a Federal Agency other than FHWA;

c. Transfer of funds from a State to another State;

d. Transfer of funds from FHWA to Federal Transit Administration pursuant to U.S.C. Title 23, § 104(f)(1);

e. Transfer of funds between programs pursuant to U.S.C. Title 23, § 126; and,

f. Transfer of funds between projects.

The State initiating the fund transfer must fill out a FHWA Funds Transfer Request form. This transfer form (FHWA-1575C) submitted for approval is similar to the currently approved transfer forms (FHWA-1575 and FHWA-1576) that have been utilized for the past five years. The main improvement is that this transfer form combines what were previously two forms (one for transfers within State or to another State and one for transfers to other agencies) into a single form. The new FHWA-1575C transfer form includes drop-down boxes that will allow States to select the type of transfer and other information. This new form will streamline that transfer request process for States by allowing them to use the single form for all types of transfers of apportioned funds rather than having to select the appropriate form. Information required to fill out a transfer form will include the requester's contact information; a description of the program/project the transfer will come from and go to, the fiscal year, the program code, a demo ID or an urban area when applicable, and the amount to be transferred. The form must be approved by the applicable State Department of Transportation and concurred on by the correlating FHWA Division Office.

Respondents: 50 State Transportation Departments, the District of Columbia, and Puerto Rico.

Frequency: As Needed.

Estimated Average Burden per Response: 15 minutes.

Estimated Total Annual Burden Hours: It is estimated that a total of 2,000 responses will be received annually, which would equal a total annual burden of 500 hours.

Authority: The Paperwork Reduction Act of 1995; 44 U.S.C. Chapter 35, as amended; and 49 CFR 1.48.

Issued On: October 30, 2020.
Michael Howell,
Information Collection Officer.

[FR Doc. 2020-24438 Filed 11-3-20; 8:45 am]

BILLING CODE 4910-22-P